DEPARTMENT OF HEALTH AND HUMAN SERVICES

Administration for Children and Families

Proposed Information Collection Activity; Comment Request

Proposed Projects

Title: Grant Application Data Summary (GADS) Form.

OMB No.: 0970-0328.

Description: The Grant Application Data Summary (GADS) form collects information from applicants seeking grants from the Administration for Native Americans (ANA). Applicants complete the GADS form as part of their funding package. This standardized format allows ANA to evaluate applications for financial assistance and to determine the relative focus of the projects for which such assistance is requested. The data collected focuses on the specific ANA program area for which the applicant is applying. ANA awards annual grants in the following nine competitive areas: (1) Social & Economic Develop Strategies (SEDS); (2) Alaska SEDS; (3) Special Initiative: Family Preservation: Improving the Well-Being of Children Planning; (4) Special Initiative: Family Preservation: Improving the Well-Being of Children Implementation; (5) Native Language Preservation & Maintenance Assessment; (6) Native Language Preservation & Maintenance Planning; (7) Native Language Preservation & Maintenance Implementation; (8) Native Language Preservation & Maintenance Immersion; (9) Environmental Regulatory Enhancement.

Respondents: Federally Recognized Indian Tribes, Tribal Governments, Native American Non-profits, Tribal Colleges and Universities.

ANNUAL BURDEN ESTIMATES
Instrument | Number of respondents | Number of responses per respondent | Average burden hours per response | Total burden hours
Grant Application Data Summary (GADS) | 500 | 1 | 0.50 | 250

Estimated Total Annual Burden Hours: 250

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 12, 2009.
Janean Chambers,
Reports Clearance Officer.

[FR Doc. E9-11364 Filed 5-14-09; 8:45 am]

BILLING CODE 4184-01-P